DEPARTMENT OF HOMELAND SECURITY

Federal Emergency Management Agency

[Docket ID FEMA-2013-0002; Internal Agency Docket No. FEMA-B-1324]

Changes in Flood Hazard Determinations

AGENCY: Federal Emergency Management Agency, DHS.

ACTION: Notice.

SUMMARY: This notice lists communities where the addition or modification of Base Flood Elevations (BFEs), base flood depths, Special Flood Hazard Area (SFHA) boundaries or zone designations, or the regulatory floodway (hereinafter referred to as flood hazard determinations), as shown on the Flood Insurance Rate Maps (FIRMs), and where applicable, in the supporting Flood Insurance Study (FIS) reports, prepared by the Federal Emergency Management Agency (FEMA) for each community, is appropriate because of new scientific or technical data. The FIRM, and where applicable, portions of the FIS report, have been revised to reflect these flood hazard determinations through issuance of a Letter of Map Revision (LOMR), in accordance with Title 44, Part 65 of the Code of Federal Regulations (44 CFR Part 65). The LOMR will be used by insurance agents and others to calculate appropriate flood insurance premium rates for new buildings and the contents of those buildings. For rating purposes, the currently effective community number is shown in the table below and must be used for all new policies and renewals.

DATES: These flood hazard determinations will become effective on the dates listed in the table below and revise the FIRM panels and FIS report in effect prior to this determination for the listed communities.

From the date of the second publication of notification of these changes in a newspaper of local circulation, any person has ninety (90) days in which to request through the community that the Deputy Associate Administrator for Mitigation reconsider the changes. The flood hazard determination information may be changed during the 90-day period.

ADDRESSES: The affected communities are listed in the table below. Revised flood hazard information for each community is available for inspection at both the online location and the respective community map repository address listed in the table below. Additionally, the current effective FIRM and FIS report for each community are accessible online through the FEMA Map Service Center at www.msc.fema.gov for comparison.

Submit comments and/or appeals to the Chief Executive Officer of the community as listed in the table below.

FOR FURTHER INFORMATION CONTACT: Luis Rodriguez, Chief, Engineering Management Branch, Federal Insurance and Mitigation Administration, FEMA, 500 C Street SW., Washington, DC 20472, (202) 646-4064, or (email) Luis.Rodriguez3@fema.dhs.gov; or visit the FEMA Map Information eXchange (FMIX) online at www.floodmaps.fema.gov/fhm/fmx_main.html.

SUPPLEMENTARY INFORMATION: The specific flood hazard determinations are not described for each community in this notice. However, the online location and local community map repository address where the flood hazard determination information is available for inspection is provided.

Any request for reconsideration of flood hazard determinations must be submitted to the Chief Executive Officer of the community as listed in the table below.

The modifications are made pursuant to section 201 of the Flood Disaster Protection Act of 1973, 42 U.S.C. 4105, and are in accordance with the National Flood Insurance Act of 1968, 42 U.S.C. 4001 et seq., and with 44 CFR Part 65.

The FIRM and FIS report are the basis of the floodplain management measures that the community is required either to adopt or to show evidence of having in effect in order to qualify or remain qualified for participation in the National Flood Insurance Program (NFIP).

These flood hazard determinations, together with the floodplain management criteria required by 44 CFR 60.3, are the minimum that are required. They should not be construed to mean that the community must change any existing ordinances that are more stringent in their floodplain management requirements. The community may at any time enact stricter requirements of its own or pursuant to policies established by other Federal, State, or regional entities. The flood hazard determinations are in accordance with 44 CFR 65.4.

The affected communities are listed in the following table. Flood hazard determination information for each community is available for inspection at both the online location and the respective community map repository address listed in the table below. Additionally, the current effective FIRM and FIS report for each community are accessible online through the FEMA Map Service Center at www.msc.fema.gov for comparison.

State and county | Location and case No. | Chief executive officer of community | Community map repository | Online location of Letter of Map Revision | Effective date of modification | Community No.
New Mexico:
Bernalillo | City of Albuquerque, (12-06-3488P) | The Honorable Richard J. Berry, Mayor, City of Albuquerque, P.O. Box 1293, Albuquerque, NM 87103 | Development and Building Services Division, 600 2nd Street Northwest, Suite 201, Albuquerque, NM 87102 | http://www.rampp-team.com/lomrs.htm | August 12, 2013 | 350002
Oklahoma:
Oklahoma | City of Oklahoma City, (12-06-4147P) | The Honorable Mick Cornett, Mayor, City of Oklahoma City, 200 North Walker Avenue, 3rd Floor, Oklahoma City, OK 73102 | 420 West Main Street, Suite 700, Oklahoma City, OK 73102 | http://www.rampp-team.com/lomrs.htm | August 12, 2013 | 405378
Woods | Unincorporated areas of Woods County, (12-06-2877P) | The Honorable Clint Strawn, Chairman, Woods County Board of Commissioners, P.O. Box 386, Alva, OK 73717 | Woods County Courthouse, 407 Government Street, Alva, OK 73717 | http://www.rampp-team.com/lomrs.htm | August 12, 2013 | 400481
Texas:
Brazos | City of Bryan, (12-06-2987P) | The Honorable Jason Bienski, Mayor, City of Bryan, 300 South Texas Avenue, Bryan, TX 77803 | City Hall, 300 South Texas Avenue, Bryan, TX 77803 | http://www.rampp-team.com/lomrs.htm | August 12, 2013 | 480082
Denton | City of Frisco, (12-06-4054P) | The Honorable Maher Maso, Mayor, City of Frisco, 6101 Frisco Square Boulevard, Frisco, TX 75034 | City Hall, 6101 Frisco Square Boulevard, Frisco, TX 75034 | http://www.rampp-team.com/lomrs.htm | August 19, 2013 | 480134
Denton | Town of Little Elm, (12-06-4054P) | The Honorable David Hillock, Mayor, Town of West Elm, 100 West Eldorado Parkway, Little Elm, TX 75068 | Town Hall, 100 West Eldorado Parkway, Little Elm, TX 75068 | http://www.rampp-team.com/lomrs.htm | August 19, 2013 | 481152
Fort Bend | City of Katy, (12-06-1798P) | The Honorable Don Elder, Jr., Mayor, City of Katy, P.O. Box 617, Katy, TX 77493 | Public Works Department, 910 Avenue C, Katy, TX 77493 | http://www.rampp-team.com/lomrs.htm | August 2, 2013 | 480301
Hays | City of Niederwald, (12-06-3911P) | The Honorable Reynell Smith, Mayor, City of Niederwald, 13851 Camino Real, Niederwald, TX 78640 | City Office, 13851 Camino Real, Niederwald, TX 78640 | http://www.rampp-team.com/lomrs.htm | August 15, 2013 | 481670
Hays | Unincorporated areas of Hays County, (12-06-3911P) | The Honorable Bert Cobb, M.D., Hays County Judge, 111 East San Antonio Street, Suite 300, San Marcos, TX 78666 | Hays County Environmental Health Department, 1251 Civic Center Loop, San Marcos, TX 78666 | http://www.rampp-team.com/lomrs.htm | August 15, 2013 | 480321
Tarrant | City of Fort Worth, (12-06-1459P) | The Honorable Betsy Price, Mayor, City of Fort Worth, 1000 Throckmorton Street, Fort Worth, TX 76102 | Department of Transportation and Public Works, 1000 Throckmorton Street, Fort Worth, TX 76102 | http://www.rampp-team.com/lomrs.htm | May 20, 2013 | 480596
Tarrant | City of Fort Worth, (12-06-3084P) | The Honorable Betsy Price, Mayor, City of Fort Worth, 1000 Throckmorton Street, Fort Worth, TX 76102 | Department of Transportation and Public Works, 1000 Throckmorton Street, Fort Worth, TX 76102 | http://www.rampp-team.com/lomrs.htm | July 11, 2013 | 480596
Tarrant | City of Westworth Village, (12-06-1459P) | The Honorable Tony Yeager, Mayor, City of Westworth Village, 311 Burton Hill Road, Westworth Village, TX 76114 | City Hall, 311 Burton Hall Road, Westworth Village, TX 76114 | http://www.rampp-team.com/lomrs.htm | May 20, 2013 | 480616
Travis | City of Austin, (13-06-0132P) | The Honorable Lee Leffingwell, Mayor, City of Austin, P.O. Box 1088, Austin, TX 78767 | Stormwater Management Division, 505 Barton Springs Road, Suite 908, Austin, TX 78704 | http://www.rampp-team.com/lomrs.htm | August 8, 2013 | 480624
West Virginia:
Kanawha | Unincorporated areas of Kanawha County, (13-03-0645P) | The Honorable W. Kent Carper, President, Kanawha County Commission, 407 Virginia Street East, Charleston, WV 25301 | Kanawha County Courthouse, Planning and Development Department, 407 Virginia Street East, Charleston, WV 25301 | http://www.rampp-team.com/lomrs.htm | August 12, 2013 | 540070

(Catalog of Federal Domestic Assistance No. 97.022, “Flood Insurance.”)

Dated: May 17, 2013.
Roy E. Wright,
Deputy Associate Administrator for Mitigation, Department of Homeland Security, Federal Emergency Management Agency.

[FR Doc. 2013-13934 Filed 6-11-13; 8:45 am]

BILLING CODE 9110-12-P